DEPARTMENT OF THE INTERIOR

National Park Service

Boundary Revision

AGENCY: National Park Service, Department of the Interior.

ACTION: Notification of boundary revision.

SUMMARY: Notice is hereby given that the boundary of Big Thicket National Preserve is modified to include seven tracts of land adjacent to the park. This revision is made to include privately owned property that the landowners wish to donate to the United States. The National Park Service has determined that inclusion of the seven tracts within the preserve's boundary will make significant contributions to the purposes for which the preserve was established. After the United States acquires the tracts, the National Park Service will manage them in accordance with applicable law.

FOR FURTHER INFORMATION CONTACT: National Park Service, Glenna F. Vigil, Chief, Land Resources Program Center, Intermountain Region, P.O. Box 728, Santa Fe, New Mexico 87504.

DATES: The effective date of this boundary revision is the date of publication in the Federal Register.

SUPPLEMENTARY INFORMATION: The Act of October 11, 1974, Public Law 93-439, 88 Stat. 1254, codified as amended at 16 U.S.C. 698 through 698e (2006), established the Big Thicket National Preserve and provides that after advising the House Committee on Natural Resources and the Senate Committee on Energy and Natural Resources, the Secretary of the Interior is authorized to make these boundary revisions. This action will add seven tracts comprising 6,281.19 acres of land, more or less, of land to the Big Thicket National Preserve. The acquisition of these tracts is required to maintain the preserve's natural and ecological integrity. The seven tracts are listed as follows: Tract 201-12, 92.00 acres; Tract 202-10, 816.70 acres; Tract 224-15, 81.05 acres; Tract 225-16, 167.05 acres; Tract 229-03, 4,500 acres, more or less; Tract 229-04, 408.69 acres; and Tract 229-05, 215.70 acres. The referenced tracts are depicted on the following land acquisition segment maps as follows: Segment Map 201, sheet 7 of 8, having drawing no. 175/30,012; Segment Map 202, sheet 8 of 8, having drawing no. 175/30,012; Segment Map 224, sheet 7 of 10, having drawing no. 175/80,010; Segment Map 225, sheet 8 of 10, having drawing no. 175/80,010 and Segment Map 229, sheet 1 of 1, having drawing no. 175/80,016.

Note: When contacting this office or any government office, before including your address, phone number, e-mail address or other personal identifying information in your comment, you should be aware that your entire comment—including your personal identifying information—may be made publicly available at any time. While you can ask us in your comment to withhold your personal identifying information from public review, we cannot guarantee that we will be able to do so.

Note: This document was received at the Office of the Federal Register on September 9, 2008.

Dated: March 10, 2008.
Michael D. Snyder,
Regional Director, Intermountain Region.

[FR Doc. E8-21286 Filed 9-11-08; 8:45 am]

BILLING CODE 4312-CB-P